INTERNATIONAL TRADE COMMISSION

[Investigation Nos. 701-TA-511 and 731-TA-1246-1247 (Review)]

Certain Crystalline Silicon Photovoltaic Products From China and Taiwan

Determinations

On the basis of the record ¹ developed in the subject five-year reviews, the United States International Trade Commission (“Commission”) determines, pursuant to the Tariff Act of 1930 (“the Act”), that revocation of the countervailing and antidumping duty orders on certain crystalline silicon photovoltaic products (“CSPV products”) from China and the antidumping duty order on CSPV products from Taiwan would be likely to lead to continuation or recurrence of material injury to an industry in the United States within a reasonably foreseeable time.

¹ The record is defined in § 207.2(f) of the Commission's Rules of Practice and Procedure (19 CFR 207.2(f)).

Background

The Commission instituted these reviews on January 2, 2020 (85 FR 120) and determined on April 6, 2020 that it would conduct expedited review (85 FR 42430, July 14, 2020).

The Commission made these determinations pursuant to section 751(c) of the Act (19 U.S.C. 1675(c)). It completed and filed its determinations in these reviews on August 31, 2020. The views of the Commission are contained in USITC Publication 5112 (August 2020), entitled Certain Crystalline Silicon Photovoltaic Products from China and Taiwan: Investigation Nos. 701-TA-511 and 731-TA-1246-1247 (Review).

By order of the Commission.
Issued: September 1, 2020.
Lisa Barton,
Secretary to the Commission.

[FR Doc. 2020-19638 Filed 9-3-20; 8:45 am]

BILLING CODE 7020-02-P